DEPARTMENT OF DEFENSE

Office of the Secretary

Alternative Fuel Vehicle Acquisition Reports

AGENCY: Department of Defense.

ACTION: Notice of availability.

SUMMARY: Pursuant to 42 United States Code 13218, the Department of Defense gives notice that the Department's 1998-2001 alternative fuel vehicle compliance reports are available on-line at https://www.denix.osd.mil/denix/Public/Library/AFV/afv.html. The 2002 reports are being prepared and will be posted to this site. Additional information concerning the Department's alternative fuel vehicle program is contained in the Defense Environmental Quality Program Annual Reports to Congress, available on line at https://www.denix.osd.mil/denix/Public/News/news.html#osd.

FOR FURTHER INFORMATION CONTACT: Lt Col Bruce Harding at (703) 604-1831, or via e-mail at bruce.harding@osd.mil.

Dated: January 8, 2003.
Patricia L. Toppings,
Alternate OSD Federal Register Liaison Officer, Department of Defense.

[FR Doc. 03-780 Filed 1-14-03; 8:45 am]

BILLING CODE 5001-08-M